DEPARTMENT OF AGRICULTURE

Forest Service

Okanogan-Wenatchee National Forest; Washington; Forest Plan Amendment for Planning and Management of Domestic Sheep and Goat Grazing Within the Range of Bighorn Sheep

AGENCY: Forest Service, USDA.

ACTION: Notice of intent to prepare an Environmental Impact Statement.

SUMMARY: The United States Department of Agriculture (USDA) Forest Service, Okanogan-Wenatchee National Forest (OWNF), proposes to amend the Land and Resource Management Plans (Forest Plans) for the OWNF to provide forest plan direction for managing domestic sheep and goat grazing within the range of bighorn sheep (Ovis canadensis) to better provide for forest-wide bighorn sheep viability in the context of range management. This notice advises the public that the OWNF is gathering information necessary to prepare an Environmental Impact Statement (EIS) to evaluate the effects of changing or adding plan components.

DATES: Comments concerning the scope of the analysis must be received by July 1, 2019. The Draft EIS is expected in January 2020 and the Final EIS is expected July 2020.

ADDRESSES: Send written comments to: Okanogan-Wenatchee National Forest, Domestic Sheep Grazing EIS, 215 Melody Lane, Wenatchee, Washington 98801. Comments may also be sent via facsimile to 509-664-9280 or submitted in person during regular business hours between 8:00 a.m. and 4:30 p.m., Pacific Time, Monday through Friday, at the address listed above. Comments may also be submitted online at: https://www.fs.usda.gov/project/?project=53257.

FOR FURTHER INFORMATION CONTACT: Darren Goodding, Forest Environmental Coordinator, Okanogan-Wenatchee National Forest via email at darrenbgoodding@fs.fed.us or via phone at (509) 664-9232, between 8:00 a.m. and 4:00 p.m., Pacific Time, Monday through Friday.

Individuals who use telecommunication devices for the deaf (TDD) may call the Federal Information Relay Service (FIRS) at 1-800-877-8339 between 8 a.m. and 8 p.m., Eastern Time, Monday through Friday.

SUPPLEMENTARY INFORMATION:

Purpose and Need for Action

Bighorn sheep are designated by the USDA Forest Service Region 6 as a sensitive species. The sensitive species designation indicates there is concern for the long-term viability and/or conservation status of bighorn sheep on National Forest System (NFS) lands in the region (Forest Service Manual 2670.5). Forest Service Manual (FSM) sections 2670.32 and 2672.1 provide Agency direction to avoid or minimize impacts to designated sensitive species.

Although native to the Cascade foothills, bighorn sheep currently occupy only a fraction of their historic range. Bighorn sheep were extirpated in the state of Washington by 1935. Subsequent reintroduction of bighorn sheep has resulted in multiple herds within the state, including several that occur within the OWNF and which overlap with current domestic sheep and goat grazing allotments.

Scientific research supports a relationship between disease in bighorn sheep and contact with domestic sheep or goats when these species are in close proximity (Lawrence et al. 2010; Besser et al. 2014). Although there is limited knowledge of transmission dynamics (Garde et al. 2005), there is a long documented history across Canada and the United States of large-scale, rapid, all-age die-offs resulting in partial to complete removal of bighorn sheep herds, many of which are attributed to domestic animal contact (Shackleton 1999; Monello et al. 2001; Schommer and Woolever 2001; Rudolph et al. 2003).

Report language in the 2016 Consolidated Appropriations Act provided the following direction: “Bighorn Sheep Conservation—In order to ensure the Nation does not lose its domestic sheep industry or Bighorn sheep conservation legacy, the Forest Service and the Bureau of Land Management (BLM) shall implement a variety of solutions, including the following directives: The agencies are directed to complete risk of contact analyses using appropriate data sources, such as from the Western Association of Fish and Wildlife Agencies, and to share the findings with the public; the Forest Service is expected to engage the Agricultural Research Service (ARS) to ensure the best scientific understanding of where disease transmission occurs and the degree of that risk and to assist the Forest Service with identifying all allotments that are suitable for sheep grazing; the Forest Service and Bureau of Land Management are also directed to identify and implement actions to resolve issues on allotments with a high risk of disease transmission, including, if agreeable to the directly affected stakeholders, the relocation of domestic sheep to allotments with a low risk, pending any site-specific environmental analysis. The 2012 planning regulations adopt a complementary ecosystem and species-specific approach to maintaining the diversity of plant and animal communities and the persistence of native species in the plan area.” The 2019 Department of Interior appropriations bill reaffirmed this 2016 direction, stating, “Bighorn Sheep.—The Committees direct the Forest Service to continue the quantitative, science-based analyses of the risk of disease transmission between domestic and bighorn sheep required in the fiscal year 2016 explanatory statement.”

Analysis conducted using the Bighorn Sheep Risk of Contact Tool (v2), developed by O'Brien et al. (2014) and the Forest Service/BLM Bighorn Sheep Working Group (2015), has shown that there is a potential for bighorn sheep to enter grazing allotments where domestic sheep and goat grazing currently exists or could occur under current management frameworks. Disease-related mortality has been identified as a factor that may adversely impact the population viability of bighorn sheep on the OWNF. Providing spatial and/or temporal separation of domestic sheep and goats from bighorn sheep is a management option used to reduce the risk of contact to an acceptable level. It is within the ability of the OWNF to establish new Forest Plan direction that would guide management to minimize the risk of contact among bighorn sheep and domestic sheep and goat grazing allotments.

Proposed Action

The OWNF proposes to amend the Forest Plan for the Okanogan National Forest and the Forest Plan for the Wenatchee National Forest to provide species-specific Forest Plan direction for managing domestic sheep and goat grazing within the range of bighorn sheep (Ovis canadensis) to better provide for Forest-wide bighorn sheep viability in the context of range management. While the OWNF is managed as one administrative unit, Forest Plans were completed separately for the Wenatchee National Forest and the Okanogan National Forest prior to the units being administratively combined, and these original plans were written prior to the Regional Forester identifying bighorn sheep as a sensitive species. The proposed plan amendment would apply to each of the plans as a forest-wide amendment and would add plan components to the Forest Plans as needed to support management of domestic sheep and goat grazing while mitigating high risk of contact with bighorn sheep (Ovis canadensis). High risk is currently defined by the Bighorn Sheep Risk of Contact Tool (v.2) but plan direction would allow for updated versions of this model. This analysis would consider other potential factors for making a determination of high risk at both the Forest wide and local levels. Factors may include local topography, spatial or temporal separation, or other herd characteristics or range management actions.

Current mitigation measures that are being used to reduce risk of contact between domestic sheep and bighorn sheep include: Requiring experienced sheepherders on allotments located near bighorn sheep habitat; conducting full counts of domestic sheep when trailing and regularly during general grazing; trucking in water if needed to reduce straying; and reporting of stray or missing domestic sheep and any wild sheep and domestic sheep interactions.

When proposing a Forest Plan amendment, the 2012 Planning Rule (36 CFR 219), as amended, requires the responsible official to provide in the initial notice “which substantive requirements of §§ 219. 8 through 219.11 are likely to be directly related to the amendment (§ 219.13(b)(5)) . . .” Whether a rule provision is likely to be directly related to an amendment is determined by the purpose for and the effects of the amendment, and informed by the best available scientific information, scoping, effects analysis, monitoring data or other rationale. Based on the proposed amendment and requirement of the planning rule, the following substantive requirements of the 36 CFR 219 planning regulations would likely be directly related to the proposed amendment: 219.8(a)(1)(ii) Contributions of the plan area to ecological conditions within the broader landscape influenced by the plan area; 219.8(b)(1) Social, cultural, and economic conditions relevant to the area influenced by the plan; 219.9(a)(2)(i) Key characteristics associated with terrestrial and aquatic ecosystem types; and 219.10(a)(7) Reasonably foreseeable risks to ecological, social, and economic sustainability.

Existing allotment management plans and the associated environmental analyses would be revised subsequent to the proposed Forest Plan amendments being adopted in order to evaluate site-specific conditions relative to risk of contact and ability to mitigate risk.

Possible Alternatives

A no-action alternative, which represents no change and serves as the baseline for the comparison among the action alternatives, will be analyzed in addition to the proposed action. Comments we receive in response to this Notice of Intent may identify additional alternatives.

Lead and Cooperating Agencies

The USDA Forest Service, OWNF is the lead agency for the proposed action and compliance with the National Environmental Policy Act (NEPA). The OWNF has identified two agencies with special expertise with respect to the proposed action that would serve as cooperating agencies.

The USDA ARS has special expertise in animal diseases that would inform the Forest's management decisions. The ARS would help provide the best available scientific information on the transmission of pathogens between domestic sheep and/or goats and bighorn sheep, the risk that transmission would result in disease in bighorn sheep and their herds, and potential strategies to address transmission.

The Washington Department of Fish and Wildlife (WDFW) has special expertise in the management of wildlife, including bighorn sheep within the State of Washington. The WDFW is asked to provide information regarding the current status of the bighorn sheep populations that may be affected by the proposed action and has been invited to participate in development of this environmental analysis by providing information and expertise in regard to the State's wildlife management program as a cooperating agency.

Responsible Official

Okanogan-Wenatchee National Forest Supervisor.

Nature of Decision To Be Made

The Responsible Official will decide whether to approve the proposed amendment of the OWNF Forest Plans to establish new plan components for domestic sheep and goat grazing on NFS lands within the range of the bighorn sheep.

Scoping Process

This Notice of Intent initiates the scoping process, which guides the development of the EIS. The OWNF will invite the public to participate in a series of informational, virtual open houses. These meetings will be posted on the Forest's website at https://www.fs.usda.gov/main/okawen/landmanagement/planning and will be advertised in local newspaper of record.

It is important that reviewers provide their comments at such times and in such manner that they are useful to the agency's preparation of the EIS. Therefore, comments should be provided prior to the close of the comment period and should clearly articulate the reviewer's concerns and/or contentions.

Comments received in response to this solicitation, including names and addresses of those who comment, will be part of the public record for this proposed action. Comments submitted anonymously will be accepted and considered; however, anonymous comments will not provide the respondent with eligiblity to participate in subsequent administrative review or judicial review. The proposed project is an activity that includes a programmatic plan amendment and is subject to 36 CFR 219 subparts A and B. The publication date of the NOI in the Federal Register is the exclusive means for calculating the scoping period. Those wishing to comment should not rely upon dates or timeframe information provided by any other source. If the scoping period ends on a Saturday, Sunday, or Federal holiday, scoping comments will be accepted until the end of the next Federal working day.

Only individuals or entities (as defined by 36 CFR 219.53) who submit substantive formal comments (as defined by 36 CFR 219.62) about this plan amendment will be eligible to file an objection. Other requirements to be eligible to submit an objection are defined by 36 CFR 219.54(c) and include name, postal address, name of the plan amendment, signature or other verification of identity upon request, and the identity of the individual or entity who authored the comments. Individual members of an entity must submit their own individual comments in order to have eligibility to object as an individual. A timely submission will be determined as outlined in 36 CFR 219.16(a)(2). It is the responsibility of the sender to ensure timely receipt of any comments submitted. Names and contact information submitted with comments will become part of the public record and may be released under the Freedom of Information Act.

Substantive formal comments are those that are within the scope of the proposal, are specific to the proposal, have a direct relationship to the proposal, and include supporting reasons for the responsible official to consider (36 CFR 219.62).

Dated: March 28, 2019.
Allen Rowley,
Acting Associate Deputy Chief, National Forest System.

[FR Doc. 2019-10266 Filed 5-16-19; 8:45 am]

BILLING CODE 3411-15-P